DEPARTMENT OF HEALTH AND HUMAN SERVICES

National Institutes of Health

National Institute of Biomedical Imaging and Bioengineering; Amended Notice of Meeting

Notice is hereby given of a time change in the meeting of the National Advisory Council for Biomedical Imaging and Bioengineering, May 21, 2019, 08:30 a.m. to May 21, 2019, 03:00 p.m., The William F. Bolger Center, Osgood Building, #500, 9600 Newbridge Drive, Potomac, MD 20854 which was published in the Federal Register on March 29, 2019, 84FR11988.

The meeting notice is amended to change the start time of the meeting from May 21, 2019, 08:30 a.m. to May 21, 2019, 09:00 a.m. The meeting is partially closed to the public.

Dated: April 24, 2019.
Sylvia L. Neal,
Program Analyst, Office of Federal Advisory Committee Policy.

[FR Doc. 2019-08623 Filed 4-26-19; 8:45 am]

BILLING CODE 4140-01-P